DEPARTMENT OF LABOR

Employment and Training Administration

[TA-W-42,043]

The Eureka Company, El Paso, TX; Notice of Termination of Investigation

Pursuant to Section 221 of the Trade Act of 1974, an investigation was initiated on September 3, 2002 in response to a worker petition signed on August 2, 2002 on behalf of workers at The Eureka Company, El Paso, Texas.

An active certification covering the petitioning group of workers remains in effect (TA-W-39,101) through May 8, 2002. Consequently, further investigation in this case would serve no purpose, and the investigation has been terminated.

Signed in Washington, DC this 23rd day of October, 2002.
Elliott S. Kushner,
Certifying Officer, Division of Trade Adjustment Assistance.

[FR Doc. 02-28033 Filed 11-4-02; 8:45 am]

BILLING CODE 4510-30-P